NUCLEAR REGULATORY COMMISSION

[Docket Nos. 50-336 and 50-423]

Dominion Nuclear Connecticut, Inc.; Millstone Power Station, Units 2 and 3; Notice of Issuance of Renewed Facility; Operating License Nos. Dpr-65 And Npf-49; for an Additional 20-Year Period

Notice is hereby given that the U.S. Nuclear Regulatory Commission (NRC or the Commission) has issued Renewed Facility Operating License Nos. DPR-65 and NPF-49 to Dominion Nuclear Connecticut, Inc. (licensee), the operator of Millstone Power Station (MPS), Units 2 and 3. Renewed Facility Operating License No. DPR-65 authorizes operation of MPS Unit 2 by the licensee at reactor core power levels not in excess of 2700 megawatts thermal, in accordance with the provisions of the MPS renewed license and its Technical Specifications. Renewed Facility Operating License No. NPF-49 authorizes operation of MPS Unit 3 by the licensee at reactor core power levels not in excess of 3411 megawatts thermal, in accordance with the provisions of the MPS renewed license and its Technical Specifications.

MPS Units 2 and 3 are pressurized water reactors located in Waterford, Connecticut. The licensee's applications for the renewed licenses complied with the standards and requirements of the Atomic Energy Act of 1954, as amended (the Act), and the Commission's regulations. As required by the Act and the Commission's regulations in 10 CFR Chapter 1, the Commission has made appropriate findings, which are set forth in each license. Prior public notice of the action of issuing the proposed renewed licenses and of an opportunity for a hearing on the proposed issuance of the renewed licenses was published in the Federal Register on March 12, 2004 (69 FR 11897).

For further details about this action, see: (1) Dominion Nuclear Connecticut's license renewal applications for MPS Units 2 and 3, dated January 20, 2004, as supplemented by letters dated through July 21, 2005; (2) the Commission's safety evaluation report dated October 2005 (NUREG-1838); and (3) the Commission's final environmental impact statements (NUREG-1437, Supplement 22, for the Millstone Power Station, Units 2 and 3, dated July 2005). These documents are available at the NRC's Public Document Room, One White Flint North, 11555 Rockville Pike, Rockville, MD 20852, and can be viewed from the NRC Public Electronic Reading Room at http://www.nrc.gov/reading-rm/adams.html.

Copies of Renewed Facility Operating License Nos. DPR-65 and NPF-49 may be obtained by writing to the U.S. Nuclear Regulatory Commission, Washington, DC, 20555-0001, Attention: Director, Division of License Renewal. Copies of the MPS Units 2 and 3, Safety Evaluation Report (NUREG-1838) and the Final Environmental Impact Statements (NUREG-1437, Supplement 22) may be purchased from the National Technical Information Service, U.S. Department of Commerce, Springfield, VA 22161 (http://www.ntis.gov), 703-605-6000, or Attention: Superintendent of Documents, U.S. Government Printing Office, P.O. Box 371954, Pittsburgh, PA 15250-7954 (http://www.gpoaccess.gov), 202-512-1800. All orders should clearly identify the NRC publication number and the requestor's Government Printing Office deposit account number or VISA or MasterCard number and expiration date.

Dated at Rockville, Maryland, this 28th day of November 2005.
For the Nuclear Regulatory Commission.
Frank P. Gillespie,
Director, Division of License Renewal, Office of Nuclear Reactor Regulation.

[FR Doc. E5-6833 Filed 12-2-05; 8:45 am]

BILLING CODE 7590-01-P